DEPARTMENT OF COMMERCE

National Telecommunications and Information Administration

Public Safety Interoperable Communications Grant Program Public Meeting

AGENCY: National Telecommunications and Information Administration, Commerce.

ACTION: Notice of Public Meeting.

SUMMARY: NTIA will hold a public meeting on June 4, 2007, in connection with its Public Safety Interoperable Communications (PSIC) Grant Program to provide information on the proposed program policies related to the program.

DATES: The meeting will be held on June 4, 2007, from 10 a.m. to 12 p.m., Eastern Standard Time.

ADDRESSES: The meeting will be held at the U.S. Department of Commerce Auditorium, 1401 Constitution Avenue, NW., Washington, DC.

FOR FURTHER INFORMATION CONTACT: Sallianne Schagrin at (202) 482-1885 or sschagrin@ntia.doc.gov.

SUPPLEMENTARY INFORMATION: NTIA will host a public meeting for all interested parties to discuss proposed program policies related to the PSIC Grant Program. A copy of a presentation on the proposed program policies and an agenda will be available on NTIA's website prior to the public meeting at www.ntia.doc.gov/psic. The meeting will be webcast. Instructions on how to access the webcast will also be available on NTIA's website at www.ntia.doc.gov/psic.

Section 3006 of the Digital Television Transition and Public Safety Act of 2005, Pub. L. No. 109-171, provides that the Assistant Secretary for Communications and Information of the Department of Commerce, in consultation with the Secretary of Homeland Security, shall make payments not to exceed $1 billion in the aggregate through fiscal year 2010 to carry out the PSIC Grant Program. As required in the recently enacted Call Home Act of 2006, the grants will be awarded by September 30, 2007.

The Grant Program, which covers public safety agencies in all 50 states, the District of Columbia, Puerto Rico and four U.S. territories, will assist public safety agencies in the acquisition of, deployment of, or training for the use of interoperable communications systems that can utilize or enable interoperability with communications systems that can utilize, certain frequencies in the 700 MHz band for radio communication.

Public attendance at the meeting is limited to space available. Due to security requirements and to facilitate entry to the Department of Commerce building, attendees must present photo identification and/or a U.S. Government building pass, if applicable. The meeting will be physically accessible to people with disabilities. Individuals requiring special services, such as sign language interpretation or other ancillary aids, must indicate this to Sallianne Schagrin at (202) 482-1885 or sschagrin@ntia.doc.gov at least two (2) business days prior to the meeting.

Dated: May 17, 2007.
Kathy D. Smith,
Chief Counsel, National Telecommunications and Information Administration.

[FR Doc. E7-9829 Filed 5-21-07; 8:45 am]

BILLING CODE 3510-60-S